DEPARTMENT OF STATE

[Public Notice 4661]

Shipping Coordinating Committee; Notice of Meeting

The Shipping Coordinating Committee (SHC) will conduct an open meeting at 10 a.m. on Tuesday June 1, 2003, in Room 4420 of the United States Coast Guard Headquarters Building, 2100 2nd Street SW., Washington, DC, 20593-0001. The primary purpose of the meeting is to prepare for the 54th Session of the International Maritime Organization's (IMO) Technical Co-operation Committee from June 15th to 17th and to prepare for the 92nd Session of the IMO Council from June 21st to 25th, both to be held at IMO Headquarters in London, England.

The primary matters to be considered for the Technical Co-operation Committee include:

—Work of other bodies and organizations;

—Global programme on maritime security;

—Partnership arrangements for technical co-operation;

—Election of the Chairman and Vice-Chairman for 2005;

—Other matters.

The primary matters to be considered for Council include:

—Consideration of the reports of the Maritime Safety Committee, Legal Committee, Marine Environmental Protection Committee and Technical Co-operation Committee;

—Consideration of the strategy and policy of the Organization;

—Resource Management;

—Relations with intergovernmental and non-governmental organizations;

—International Maritime Prize;

—Other matters.

Members of the public may attend this meeting up to the seating capacity of the room. Interested persons may seek information by writing to Ms. Eleanor Thompson, Commandant (G-CI), U.S. Coast Guard Headquarters, 2100 Second Street SW., Room 2114, Washington, DC 20593-0001 or by calling (202) 267-2246.

Dated: April 21, 2004.
Steven Poulin,
Executive Secretary, Shipping Coordinating Committee, Department of State.

[FR Doc. 04-9532 Filed 4-26-04; 8:45 am]

BILLING CODE 4710-07-P